DEPARTMENT OF HEALTH AND HUMAN SERVICES

Centers for Disease Control and Prevention

[60Day-24-24GO; Docket No. CDC-2024-0052]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a proposed information collection, as required by the Paperwork Reduction Act of 1995. This notice invites comment on a proposed information collection project titled Formative Research on Adverse and positive childhood experiences, social determinants of health, and health equity among young adults in the U.S. This data collection is designed to allow CDC to better understand the relationship between childhood experiences and health outcomes among young adults from populations that have been socially and economically marginalized.

DATES: CDC must receive written comments on or before September 17, 2024.

ADDRESSES: You may submit comments, identified by Docket No. CDC-2024-0052 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Formative Research on Adverse and positive childhood experiences, social determinants of health, and health equity among young adults in the U.S.—New—National Center for Injury Prevention and Control (NCIPC), Centers for Disease Control and Prevention (CDC).

Background and Brief Description

CDC requests OMB approval for a new data collection for the study titled Formative research on adverse and positive childhood experiences, social determinants of health, and health equity among young adults in the U.S. This study will help CDC to better understand the relationship between adverse childhood experiences (ACEs), positive childhood experiences (PCEs), social determinants of health (SDOH), and health outcomes among young adults from populations that have been socially and economically marginalized. This is a group at high risk for experiencing childhood adversity and has been historically underrepresented in research studies.

CDC is seeking approval to conduct a one-time information collection effort, with data collection occurring over a 12-month period. The study will include 6,000 young adults ages 18-24 living in the U.S. Primary data collection, in English and Spanish, via a probability-based web panel survey, will obtain new data on retrospective assessments of ACEs and other potentially traumatic experiences, PCEs, SDOHs, and health and violence outcomes. Sampling frameworks will be designed to ensure overrepresentation of some populations that are disproportionately impacted by ACEs. as well as underrepresented in research and violence prevention programming, including individuals with disabilities; individuals from racial and ethnic minority groups; and individuals who identify as sexual or gender minority.

This project expands the existing evidence base and addresses several gaps in extant data collection systems in the following three ways. First, this study expands how ACEs are measured. Traditional ACEs research has measured eight to 10 highly interconnected, household-level childhood stressors. These include sexual abuse, physical abuse, emotional abuse, emotional neglect, physical neglect, witnessing intimate partner violence, parent separation/divorce, and living in a home with exposure to mental illness, substance misuse, and incarceration (hereafter referred to as traditional ACEs). However, most ACE research does not account for a wide array of other potentially traumatic experiences that can exist across all levels of the social ecology, including stressors that uniquely impact populations that are socially and economically marginalized (e.g., fear of deportation; experiences of transphobia; exposure to neighborhood or community violence). These potentially traumatic experiences may have an additive or multiplicative effect on risk for poor outcomes, or may have a greater effect on risk relative to the conventional ACEs categories.

Second, this study will create a diverse sample which is statistically powered to answer questions on how to prevent ACEs and mitigate the impact of specific and cumulative ACEs exposures among communities that have been traditionally socially and economically marginalized. Most samples used in prior surveillance and research studies do not sufficiently oversample under-represented communities to allow for disaggregation of results by sub-group. Thus, there is a need for data samples that allow for disaggregated analysis and results.

Third, this study will link individual level data to community-level variables. While ACEs are individual experiences, they are influenced by the contexts in which children and families live. SDOH are the conditions in which people are born, grow, live, work, and age that are shaped by the distribution of money, power, and resources. SDOH contribute to health and social inequities for groups with disparities in access to money, power and resources. Many existing ACEs datasets involving individual-level respondents cannot be linked to community-level variables. This formative study will link survey data with publicly available data on structural factors (e.g., minimum wage; generosity of unemployment benefits) via zip code or other geographic indicators.

It is estimated that up to 6,000 young adults will complete the one-time questionnaire. On average, the web-based surveys are estimated to take 30 minutes to complete. These estimates were informed by consultations with individuals with lived experiences and individuals who participated in cognitive interviews. The study team engaged three consultants with lived experience across the three main areas of interest (individuals with a disability, individuals who identify as sexual and gender minorities, and individuals who identify as racial/ethnic minorities) to inform the development and administration of the instrument. The study team also engaged up to nine individuals, in cognitive testing to ensure the relevance, validity, and equitable nature of the survey instrument. These cognitive interviews were a key component for developing a final draft of the instrument that accurately and reliably reflects the experiences and perspectives of a diverse range of individuals, families, and communities. Using a standard estimated time for question completion, the project team calculated the burden by averaging the time to complete the minimum and maximum number of survey items a respondent could be asked based on varying skip patterns. The estimated annualized burden is 3,985 hours. There is no cost to respondents other than their time to participate.

Estimated Annualized Burden Hours
Type of respondent | Form name | Number of respondents | Number of responses per respondent | Average burden per response (in hours) | Total annual burden (in hours)
18-24-year-old Survey Respondents | Recruitment Email | 5,908 | 1 | 5/60 | 493
| Follow up Recruitment Email—Non-panel | 5,907 | 1 | 5/60 | 492
| Web Survey—English | 5,700 | 1 | 30/60 | 2,850
| Web Survey—Spanish | 300 | 1 | 30/60 | 150
Total |  |  |  |  | 3,985

Jeffrey M. Zirger,
Lead, Information Collection Review Office, Office of Public Health Ethics and Regulations, Office of Science, Centers for Disease Control and Prevention.

[FR Doc. 2024-15968 Filed 7-18-24; 8:45 am]

BILLING CODE 4163-18-P